DEPARTMENT OF COMMERCE

Bureau of Industry and Security

15 CFR Parts 742 and 774

[Docket No. 080721866-0167-02]

RIN 0694-AE42

Revisions to the Commerce Control List To Update and Clarify Crime Control License Requirements

AGENCY: Bureau of Industry and Security, Commerce.

ACTION: Final Rule.

SUMMARY: This rule updates and clarifies export and reexport license requirements on striking weapons, restraint devices, shotguns and parts, optical sighting devices, and electric shock devices. It also adds equipment designed for the execution of humans to the Commerce Control List. This rule makes no changes to the longstanding policy of denial of applications to export or reexport specially designed implements of torture. The rule provides additional illustrative examples of such items and adopts a definition of torture used in a U.S. statute that implements the United Nations Convention against Torture and Other Cruel, Inhuman or Degrading Treatment or Punishment. BIS is publishing this rule as part of an ongoing review of crime control license requirements and policy.

DATES: This rule is effective July 15, 2010.

ADDRESSES: Comments on this rule may be submitted by e-mail directly to BIS at publiccomments@bis.doc.gov (refer to Regulatory Identification Number (RIN) 0694-AE42 in the subject line), or on paper to the Regulatory Policy Division, Office of Exporter Services, Bureau of Industry and Security, Room H2705, U.S. Department of Commerce, 14th Street and Pennsylvania Avenue, NW. Washington, DC 20230. Refer to RIN 0694-AE42 in all comments.

FOR FURTHER INFORMATION CONTACT: Ron Rolfe, Office of Non-proliferation and Treaty Compliance, Bureau of Industry and Security, telephone: 202 482-4563; fax: 202 482-4145; e-mail: rrolfe@bis.doc.gov.

SUPPLEMENTARY INFORMATION:

Background

The Export Administration Regulations (EAR) (15 CFR parts 730-774) impose license requirements for certain exports from the United States and reexports from other countries for, among other reasons, “crime control.” The crime control license requirements are intended for the “support of U.S. foreign policy to promote human rights throughout the world” (15 CFR 742.7(a)). Publication of this rule is part of BIS's ongoing effort to review and, where appropriate, revise the crime control license requirements in the EAR. As part of that effort, BIS published a notice of inquiry seeking public comments on whether the scope of items and destinations that are subject to crime control license requirements should be changed (73 FR 14769, March 19, 2008). After reviewing those comments, and conducting its own internal deliberations, BIS decided to proceed in stages. This final rule is the culmination of the first stage, which began with the publication of a proposed rule (74 FR 40117, August 11, 2009). This first stage addresses relatively simple extensions, modifications or removals of items currently on the Commerce Control List or additions to that List of items that have an easily identified crime control or law enforcement nexus.

BIS plans to publish a subsequent proposed rule that will identify potential expansion of certain Export Control Classification Numbers as suggested in the comments to this proposed rule; whether, and, if so, the extent to which biometric measuring devices, integrated data systems, simulators, and communications equipment should be added to the Commerce Control List; the degree to which software and technology related to commodities on the Commerce Control List should be listed and how such software and technology should be described; and general policy issues such as whether the range of destinations to which crime control license requirements apply should be modified.

Summary of the Comments on the Proposed Rule and BIS's Response to Those Comments

BIS received comments from two commenters, on individual and one non-profit organization, on the proposed rule. The comments and BIS's responses are summarized below.

Comment

One commenter welcomed the strong and unambiguous statement in § 742.7(d) that the United States considers international norms regarding human rights and the practices of other countries that control exports to promote human right when developing U.S. crime control export controls. That commenter noted that awareness of the centrality of human rights in export control policy helps international efforts to reform export control policy and serves as an example to other countries.

Response

This final rule retains the proposed rule language in § 742.7(d). The centrality of human rights in connection with crime control license requirements has been noted in the EAR for many years.

Comment

One commenter welcomed the use of the word “including” in § 742.11, which sets license requirements and policy for specially designed implements of torture.

Response

Addition of the word “including” to § 742.11 and its related Export Control Classification Number 0A983 is, as this commenter noted, intended to clarify the point that the operative factor in determining whether an item is subject to ECCN 0A983 and § 742.11 is whether that item is a specially designed implement of torture. The listed items are examples of such instruments.

Comment

One commenter welcomed the addition of the term “shock sleeves” to the illustrative list of items ECCN 0A983 (Specially Designed Implements of Torture) but noted that shock belts are not included in the 0A983 illustrative list and that “stun cuffs” are included in the illustrative list for ECCN 0A982 (Law Enforcement Restraint Devices). This commenter stated that shock belts, shock sleeves and stun cuffs pose the same concerns about potential use in repressing human rights and suggested that all three should be covered by ECCN 0A983 under the collective term “body worn electronic restraint/electric shock devices.”

Response

In deciding whether to classify an item as a specially designed implement of torture or as a law enforcement restraint device, BIS considers whether the item has legitimate law enforcement uses. In some instances, law enforcement authorities must restrain violent persons and some level of force will be needed to do so. Many items have potential to be used in abusing human rights; however not all of those items are specially designed implements of torture. Because legitimate law enforcement activities sometimes include the need to restrain violent persons without resorting to lethal force, BIS believes that some use of electric shock devices in law enforcement may be necessary. BIS has reassessed its earlier thinking and concluded that stun cuffs, shock sleeves and shock belts are, in some situations, necessary to protect law enforcement officers and the public from violent persons. At the same time, these commodities have sufficient potential to be used in the abuse of human rights that they should be subject to crime control license requirements. Accordingly, all three of those commodities should be treated as restraint devices rather than as implements of torture. Accordingly, this final rule adds “shock belts,” “stun cuffs” and “shock sleeves” to the illustrative list of restraint devices included in ECCN 0A982 . This final rule does not add “shock sleeves” to the illustrative list of specially designed implements of torture included in ECCN 0A983 and to the heading of § 742.11 of the EAR as was proposed in the proposed rule. This final rule does not add stun cuffs to ECCN 0A985 as was proposed in the proposed rule. BIS believes that the EAR will be clearer if all law enforcement restraint devices, regardless of whether they operate by physical or electrical means, are listed under a single ECCN.

Comment

One commenter recommended that BIS add Canada to the list of destinations requiring a license under ECCN 0A982, stating that the lack of a license requirement for Canada poses a diversion risk. Another comment stated the same concern regarding ECCN 0A985.

Response

BIS did not propose any changes to the destinations to which a license would be required for items described in these ECCNs. In addition, BIS's longstanding practice is not to require licenses for export or reexport to Canada for most items. Currently, BIS does not believe that Canada poses a diversion risk that would justify a departure from this longstanding practice for these ECCNs.

Comment

One commenter welcomed the use of the word “including” in ECCN 0A978.

Response

As noted by this commenter, that word makes the list illustrative. The operative term for classifying something under ECCN 0A978 will be the term “law enforcement striking weapons.” Previously this ECCN covered only saps.

Comment

One commenter expressed concern that addition of the term “law enforcement” in ECCNs 0A978 and in 0A982 could lead to abuse. This commenter offered as an example a situation in which a party might assert that a set of handcuffs were not subject to ECCN 0A982 because in a particular transaction, the handcuffs were being exported for a purpose other than law enforcement.

Response

The language in these two ECCNs describes the items that are subject to these ECCNs, not the end use to which the items are put. Some type of modifier to the term “restraint devices” in 0A982 is needed because BIS does not intend to cover all types of restraint devices, just those used in law enforcement. Similarly, some type of modifier is needed to the term striking weapons in ECCN 0A978. In general, ECCNs describe an item without reference to end-use to which an item will be put. In a few instances ECCNs are tied to a specific use by express language referring to the use (See e.g, ECCN 1C298, which applies to certain graphite “that is intended for use other than in a nuclear reactor”). ECCNs 0A978 and 0A982 do not employ similar language to describe use or intended use. The phrase “law enforcement” is intended as part of the descriptions of the items that those two ECCNs cover. The phrase does not mean that a particular export or reexport must be for a law enforcement purpose or to a law enforcement organization in order for one of those ECCNs to apply. BIS believes that no change to the wording of these two ECCNs is needed to make this point, because absence of any statement of use or intended use, when read consistently with the general pattern of language used in other ECCNs indicates that neither ECCN 0A978 nor 0A982 is tied to a particular end use.

Comment

One commenter welcomed new ECCN 0A981, which applies to equipment designed for the execution of human beings, but recommended that the wording of the ECCN be made illustrative to be consisted with ECCN's 0A983 and 0A978. Two commenters noted the absence of the phrase “and parts and accessories n.e.s” in this ECCN. One commenter expressed a belief that such absence weakened the ECCN “because execution technologies have a defined set of parts and accessories and because of their obvious potential in repressing human rights.” The other commenter stated that parts and accessories should be covered by this ECCN because doing so would strengthen the ECCN by making it difficult to repair such equipment that exists outside the United States.

Response

BIS believes that adding the word “parts” to ECCN 0A981 is not necessary at this time, but will consider proposing covering parts to this ECCN in a future rule. ECCN 0A981 covers equipment designed for the execution of human beings. BIS is not aware of export trade in parts for these commodities. Because the proposed rule did not propose adding parts to any of this ECCN, public comments have not been sought on this idea. Identifying parts that may be appropriate for an export license requirement without imposing an export license requirement on general parts that, although usable in equipment designed for the execution of human beings, have many other uses as well would require both research by BIS and public comment. Therefore, BIS will consider addressing the parts issue for these ECCNs in a future proposed rule.

Comment

One commenter stated that in ECCN 0E984, the wording “buckshot shotgun shells.” is too restrictive given the increasing range of less-lethal shotgun shells on the market, their wide use in crime control and the potential for repressing human rights. That commenter urged BIS to expand ECCN 0E984 to encompass technology for the development or production of all shotgun shells.

Response

In the proposed rule, BIS proposed replacing three different reasons for control (CC 1, CC 2 and CC 3) for technology for the development and production of shotguns with a single reason (CC 1). The reasons for control varied according to the barrel length of the shotgun. BIS proposed the change because most of the technology for the development or production of a shotgun would not vary based on barrel length. No commenters objected to this proposed change. The reference to “buckshot shotgun shells” in ECCN 0E984 was pre-existing language that BIS did not propose to change. This commenter suggests that BIS go further than the proposal and make ECCN 0E984 applicable to technology for the development and production of all shotgun shells. BIS believes that before expanding the scope of this ECCN, the proposal should be set forth in a proposed rule with an opportunity for public comment. Accordingly, BIS is not adopting this commenter's proposal at this time, but may propose it in a future rule.

Comment

One commenter expressed concern because ECCN 3A981 aggregates different types of equipment which serve different functions, namely analysis technologies, biometric technologies and penal technologies. This commenter recommended that BIS disaggregate such technologies into additional ECCN's wherever possible. The commenter stated that such disaggregating would promote best practices and clarity, and facilitate reporting and analysis of licensable exports.

Response

Disaggregating commodities currently covered by ECCN 3A981 might provide the clarity that this commenter suggests. However, doing so might also impose costs on or engender confusion among parties accustomed to the current Commerce Control List structure. BIS believes that such a restructuring should not be undertaken without notice and an opportunity for public comment. Accordingly BIS may propose disaggregating the contents of ECCN 3A981 in a future proposed rule.

Summary of the Changes Made by This Rule

Revisions to § 742.7—Crime control—This rule revises the section heading to read “Crime control and detection” to reflect the contents of the section. It also revises paragraph (a) to set forth an all destination license requirement for a new ECCN 0A981 that would apply to equipment designed for the execution of human beings. Finally, this rule revises paragraph (d) to state that in maintaining these controls, the United States considers international norms and the practices of other countries that control exports to promote the observance of human rights; however, the controls are not based on the decisions of any multilateral export control regime and may differ from controls imposed by other countries. This rule removes certain language from paragraph (d) that could have been read as erroneously implying that the United States is the only country that imposes export controls on crime control and detection items.

Revisions to § 742.11—Specially designed implements of torture * * * —This rule revises the heading to match the revised language that this rule applies to ECCN 0A983, i.e. “Specially designed implements of torture, including thumbscrews, thumbcuffs, fingercuffs, spiked batons and parts and accessories, n.e.s.” This rule also revises paragraph (d) to state that in maintaining these controls, the United States considers international norms and the practices of other countries that control exports to promote the observance of human rights; however, the controls are not based on the decisions of any multilateral export control regime and may differ from controls imposed by other countries. This rule removes certain language from paragraph (d) that could have been read as erroneously implying that the United States is the only country that imposes export controls on specially designed implements of torture. This rule makes no changes to the policy of denial of applications to export items subject to § 742.11 or to the prohibition (stated in § 740.2(a)(10) of the EAR) on use of license exceptions to export commodities subject to § 742.11 of the EAR.

Revisions to ECCN 0A978—Saps—The items covered by this ECCN are expanded from “saps” to “law enforcement striking weapons.” Saps, police batons, side handle batons, tonfas, sjamboks, and whips are listed as examples of law enforcement striking weapons. BIS believes that this change will provide consistent license requirements for several items that have substantially similar crime control functions.

Creation of ECCN 0A981—Equipment for the Execution of Human Beings—This rule creates a new ECCN 0A981 that applies to equipment designed for the execution of human beings. Such equipment will require a license to all destinations. BIS is adding this ECCN because equipment designed for the execution of human beings has a clear nexus to crime control and an obvious potential use in repressing human rights.

Revisions to ECCN 0A982—Restraint Devices—Several changes are being made to this ECCN to (a) make clear that it applies to law enforcement restraint devices, rather than safety or medical equipment, (b) update the illustrative list of commodities to which this ECCN applies, and (c) cross reference other ECCNs that apply to similar devices. These changes are intended to focus the ECCN on items of crime control significance and to reduce the possibility of misinterpretations. The rule adds the phrase “Law enforcement” to the ECCN heading. This rule adds “multipoint restraint devices including restraint chairs” to the illustrative list of restraint devices because use of these devices has increased in recent years and because they have potential for use in human rights abuse. This rule adds stun cuffs, shock sleeves, and shock belts to ECCN 0A982. The proposed rule would have added shock sleeves to ECCN 0A983 and stun cuffs to ECCN 0A985. As pointed out in the public comments, the proposed rule did not address shock belts at all. Upon reflection, BIS has concluded that each of these three devices has a legitimate law enforcement use in restraining violent persons. Each can be distinguished from the specially designed implements of torture in ECCN 0A983, which have no legitimate law enforcement uses and from the shock devices in ECCN 0A985, which can be used to apply non-lethal force to protect law enforcement personnel and others from violent persons. Placing these three devices in the law enforcement restraint device ECCN will add clarity to the EAR. The rule also revises the related controls paragraph of this ECCN to note two related export license requirements: finger cuffs are classified under ECCN 0A983—specially designed implements of torture, and electronic devices that monitor and report a person's location to enforce restrictions on movement for law enforcement or penal reasons are controlled under ECCN 3A981.

Finally, this rule adds a note stating that ECCN 0A982 does not apply to medical devices that are equipped to restrain patient movement during medical procedures, devices that confine memory-impaired patients to appropriate medical facilities, or safety equipment such as safety belts or child automobile safety seats.

BIS believes that this revised language clarifies the scope of ECCN 0A982 and is not a substantive change.

Revisions to ECCN 0A983—Specially Designed Implements of Torture—This rule makes no changes to the EAR's stated policies of denial of license applications for the export or reexport of specially designed implements of torture and prohibition of use of any license exception to export or reexport specially designed implements of torture.

The heading of ECCN 0A983 is being revised to add the word “including” immediately following the phrase “specially designed implements of torture” to make clear that the items listed are examples of specially designed implements of torture rather than an exclusive list of such implements. The heading is also being revised to add fingercuffs, and spiked batons to the ECCN as additional examples of specially designed implements of torture. A new note provides that “torture” in this ECCN has the same meaning as set forth in 18 U.S.C. 2340(1), which is the definition employed by the United States criminal statute that implements the United Nations Convention against Torture and Other Cruel, Inhuman or Degrading Treatment or Punishment. BIS believes that these changes will more clearly distinguish specially designed implements of torture from crime control and detection items.

Revisions to ECCN 0A984—Shotguns—This rule removes the phrase “parts n.e.s.” and adds the following specific parts for the shotguns controlled by this ECCN: Barrels of 18 inches (45.72 cm) or longer but not longer than 24 inches (60.96 cm), receivers, breech mechanisms, complete trigger mechanisms, and magazines or magazine extension tubes. The parts are subject to CC column 1 license requirements. BIS believes that the purposes of the control can be met by retaining the license requirement on the shotguns themselves and on the critical parts set forth in this rule. BIS believes that continuing to require licenses for other parts would pose a burden on legitimate trade in shotgun repair parts that is not needed to achieve the purpose of these controls or of the controls related to the Inter-American Convention Against the Illicit Manufacturing of and Trafficking in Firearms, Ammunition, Explosives and Other Related Materials.

Revisions to ECCN 0A985—Discharge Type Arms—ECCN 0A985 applies to discharge type arms and to some electroshock devices that are not discharge type arms. To provide greater clarity and to include a representative description of devices currently available, this proposed rule adds the phrase “devices to administer electric shock” to the heading and adds shock shields to the illustrative list of items classified under this ECCN. This rule also adds references to the “Related Controls” paragraph informing readers that electronic devices that monitor and report a person's location to enforce restrictions on movement for law enforcement or penal reasons are controlled under ECCN 3A981 and that law enforcement restraint devices that administer an electric shock are controlled under ECCN 0A982.

Revisions to ECCN 0A987—Optical Sighting Devices for Firearms—This rule replaces the general description in the heading of ECCN 0A987 with a list of items controlled. With this change, the ECCN clearly states that it applies to specific sighting devices, their associated optical elements, and adjustment mechanisms.

Revisions to ECCN 0E984—Technology for shotguns—This rule revises ECCN 0E984 to apply CC Column 1 as a reason for control of technology for the development and production of all shotguns and shotgun shells controlled by ECCN 0A984. Currently, ECCN 0E984 applies reasons for control that are parallel to the reasons for control in ECCN 0A984, i.e., CC Column 1, 2, or 3 is applied depending on whether the barrel length exceeds 24 inches and whether the end-user is a law enforcement agency. BIS is making the change described in this paragraph because it believes that the technology for the development and production of shotguns is substantially the same for all shotguns with barrel length exceeding 18 inches and does not vary based on the end user of the shotgun.

Revisions to ECCN 3A981—Polygraphs and other electronic devices—This rule adds a cross reference to the restraint devices controlled by ECCN 0A982. This rule also adds a note expressly stating that the electronic monitoring restraint devices in ECCN 3A981 are devices that monitor or report the location of confined persons for law enforcement or penal reasons. The note excludes devices used to confine memory impaired patients to appropriate medical facilities. BIS views these changes as clarifications rather than substantive changes.

Consistent with the provisions of section 6 of the Export Administration Act of 1979, as amended (EAA), a foreign policy report was submitted to Congress on July 12, 2010, notifying Congress of the imposition of foreign policy-based licensing requirements reflected in this rule.

Although the Export Administration Act expired on August 20, 2001, the President, through Executive Order 13222 of August 17, 2001, 3 CFR, 2001 Comp., p. 783 (2002), as extended by the Notice of August 13, 2009 (74 FR 41325 (August 14, 2009)), has continued the Export Administration Regulations in effect under the International Emergency Economic Powers Act.

Rulemaking Requirements

1. This rule is significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This rule involves a collection of information that has been approved by OMB under control number 0694-0088, which carries a burden hour estimate of 58 minutes to prepare and submit form BIS-748. Miscellaneous and recordkeeping activities account for 12 minutes per submission. BIS believes that the changes proposed will increase the number of submissions subject to this collection by approximately 1,200 annually. Send comments regarding these burden estimates or any other aspect of these collections of information, including suggestions for reducing the burden, to Jasmeet Seehra, Office of Management and Budget (OMB), by e-mail to jseehra@omb.eop.gov, or by fax to (202) 395-7285; and to the Regulatory Policy Division, Bureau of Industry and Security, Department of Commerce, Room 2705, 14th Street and Pennsylvania Ave., NW., Washington, DC 20230.

3. This rule does not contain policies with Federalism implications as this term is defined in Executive Order 13132.

4. The provision of the Administrative Procedure Act (5 U.S.C. 553) requiring a delay in effective date, is inapplicable because this regulation involves a military or foreign affairs function of the United States (see 5 U.S.C. 553(a)(1)). Delay in implementation could thwart the United States' commitment to promote the observance of human rights around the world. Any delay in the effective date of this rule could result in efforts to export restraint devices, equipment for the execution of human beings or technology for certain shotgun production to regimes or parties that abuse human rights or that would use the items to inflict torture before the license requirements become effective. In addition, immediate implementation of the changes that focus license requirements for shotgun parts and optical sighting devices parts impose no new burden on the public and will allow BIS to focus its licensing and enforcement resources on the critical parts, such as barrels, receivers, trigger mechanisms and optical elements, that give these items their essential capabilities for harm rather than dissipating such resources by evaluating license applications for and enforcing export controls on such relatively innocuous and easily fabricated items as springs, screws, washers and mounting brackets. In addition, the provisions of this rule that provide clarifications or additional cross references are not substantive changes. Because those provisions are not substantive changes, the provision of the 5 U.S.C. 553 requiring a delay in effective date is inapplicable. BIS provided a notice of proposed rulemaking and an opportunity for public comment for this rule (74 FR 40117, August 11, 2009). Nevertheless, because such notice of proposed rulemaking and an opportunity for public comment were not required to be given for this rule by 5 U.S.C. 553, or by any other law, the analytical requirements of the Regulatory Flexibility Act (5 U.S.C. 601 et seq.) are not applicable.

List of Subjects

15 CFR Part 742

Exports, Terrorism.

15 CFR Part 774

Exports, Reporting and recordkeeping requirements.

Accordingly, BIS amends the Export Administration Regulations (15 CFR Parts 730-774) as follows:

PART 742—[AMENDED]

1. The authority citation for part 742 continues to read as follows:

Authority: 50 U.S.C. app. 2401 et seq.; 50 U.S.C. 1701 et seq.; 22 U.S.C. 3201 et seq.; 42 U.S.C. 2139a; 22 U.S.C. 7201 et seq.; 22 U.S.C. 7210; Sec 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23 of May 7, 2003, 68 FR 26459, May 16, 2003; Notice of August 13, 2009, 74 FR 41325 (August 14, 2009); Notice of November 6, 2009, 74 FR 58187 (November 10, 2009).

2. In § 742.7, revise the heading, redesignate existing paragraph (a)(5) as paragraph (a)(6), add a new paragraph (a)(5) and revise paragraph (d) to read as follows:

§ 742.7 Crime control and detection.

(a) * * *

(5) Items designed for the execution of human beings as identified in ECCN 0A981 require a license to all destinations including Canada.

* * * * *

(d) U.S. controls. In maintaining its controls on crime control and detection items, the United States considers international norms regarding human rights and the practices of other countries that control exports to promote the observance of human rights. However, these controls are not based on the decisions of any multinational export control regime and may differ from controls imposed by other countries.

3. In § 742.11, revise the heading and paragraph (d) to read as follows:

§ 742.11 Specially designed implements of torture, including thumbscrews, thumbcuffs, fingercuffs, spiked batons, and parts and accessories, n.e.s.

* * * * *

(d) U.S. controls. In maintaining its controls on specially designed instruments of torture the United States considers international norms regarding human rights and the practices of other countries that control exports to promote the observance of human rights. However, these controls are not based on the decisions of any multinational export control regime and may differ from controls imposed by other countries.

PART 774—[AMENDED]

4. The authority citation for part 774 continues to read as follows:

Authority: 50 U.S.C. app. 2401 et seq.; 50 U.S.C. 1701 et seq.; 10 U.S.C. 7420; 10 U.S.C. 7430(e); 22 U.S.C. 287c, 22 U.S.C. 3201 et seq., 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 13, 2009, 74 FR 41325 (August 14, 2009).

5. In Supplement No. 1 to part 774, Category 0, revise the heading of Export Control Classification (ECCN) 0A978 to read as follows:

Supplement No. 1 to Part 774—The Commerce Control List

* * * * *

0A978 Law enforcement striking weapons, including saps, police batons, side handle batons, tonfas, sjamboks, and whips.

* * * * *

6. In Supplement No. 1 to part 774, Category 0, add a new ECCN 0A981 immediately following ECCN 0A980 and immediately preceding ECCN 0A982 to read as follows:

Supplement No. 1 to Part 774—The Commerce Control List

* * * * *

0A981 Equipment designed for the execution of human beings (See list of items controlled).

License Requirements

Reason for Control: CC.

Control(s): CC applies to entire entry. A license is required for ALL destinations regardless of end-use. Accordingly, a column specific to this control does not appear on the Commerce Country Chart. (See § 742.7 of the EAR for additional information.)

License Exceptions

LVS: N/A.

GBS: N/A.

CIV: N/A.

List of Items Controlled

Unit: $ value.

Related Controls: N/A.

Related Definitions: N/A.

Items: a. Gallows and guillotines.

b. Electric chairs for the purpose of executing human beings.

c. Air tight vaults designed for the execution of human beings by the administration of a lethal gas or substance.

d. Automatic drug injection systems designed for the execution of human beings by administration of a lethal substance.

7. In Supplement No. 1 to part 774, Category 0, ECCN 0A982, revise the heading, revise the “Related Controls” paragraph in the “List of Items Controlled” section and add a note at the end of ECCN 0A982 to read as follows:

Supplement No. 1 to Part 774—The Commerce Control List

* * * * *

0A982 Law enforcement restraint devices, including leg irons, shackles, and handcuffs; straight jackets; stun cuffs; shock belts; shock sleeves; multipoint restraint devices such as restraint chairs; and parts and accessories, n.e.s.

* * * * *

List of Items Controlled

Unit: $ * * *

Related Controls: Thumbcuffs and fingercuffs are classified under ECCN 0A983, specially designed implements of torture. Restraint devices that electronically monitor or report the location of confined persons for law enforcement or penal reasons are controlled under ECCN 3A981.

* * * * *

Note to ECCN 0A982. This ECCN applies to restraint devices used in law enforcement activities. It does not apply to medical devices that are equipped to restrain patient movement during medical procedures. It does not apply to devices that confine memory impaired patients to appropriate medical facilities. It does not apply to safety equipment such as safety belts or child automobile safety seats.

8. In Supplement No. 1 to part 774, Category 0, ECCN 0A983, revise the heading, and add a note at the end of ECCN 0A983 to read as follows:

Supplement No. 1 to Part 774—The Commerce Control List

* * * * *

0A983 Specially designed implements of torture, including thumbscrews, thumbcuffs, fingercuffs, spiked batons, and parts and accessories, n.e.s.

* * * * *

Note to ECCN 0A983. In this ECCN, “torture” has the meaning set forth in Section 2340(1) of Title 18, United States Code.

9. In Supplement No. 1 to part 774, Category 0, ECCN 0A984, revise the heading and the license requirements section of ECCN 0A984 to read as follows:

Supplement No. 1 to Part 774—The Commerce Control List

* * * * *

0A984 Shotguns with barrel length 18 inches (45.72 cm) or over; receivers; barrels of 18 inches (45.72 cm) or longer but not longer than 24 inches (60.96 cm); complete trigger mechanisms; magazines and magazine extension tubes; complete breech mechanisms; buckshot shotgun shells; except equipment used exclusively to treat or tranquilize animals, and except arms designed solely for signal, flare, or saluting use.

License Requirements

Reason for Control: CC, FC, UN.

Control(s) | Country chart
FC applies to entire entry | FC Column 1.
CC applies to shotguns with a barrel length greater than or equal to 18 in. (45.72 cm), but less than 24 in. (60.96 cm), shotgun parts controlled by this entry, and buckshot shotgun shells controlled by this entry, regardless of end-user | CC Column 1.
CC applies to shotguns with a barrel length greater than or equal to 24 in. (60.96 cm), regardless of end-user | CC Column 2.
CC applies to shotguns with a barrel length greater than or equal to 24 in. (60.96 cm) if for sale or resale to police or law enforcement | CC Column 3.
UN applies to entire entry | Iraq, North Korea, and Rwanda.

* * * * *

10. In Supplement No. 1 to part 774, Category 0, ECCN 0A985, revise the heading and the “Related Controls” paragraph of the “List of Items Controlled” section to read as follows:

Supplement No. 1 to Part 774—The Commerce Control List

* * * * *

0A985 Discharge type arms and devices to administer electric shock, for example, stun guns, shock batons, shock shields, electric cattle prods, immobilization guns and projectiles; except equipment used exclusively to treat or tranquilize animals, and except arms designed solely for signal, flare, or saluting use; and parts, n.e.s.

* * * * *

List of Items Controlled

Unit: * * *

Related Controls: Law enforcement restraint devices that administer an electric shock are controlled under ECCN 0A982. Electronic devices that monitor and report a person's location to enforce restrictions on movement for law enforcement or penal reasons are controlled under ECCN 3A981.

* * * * *

11. In Supplement No. 1 to part 774, Category 0, ECCN 0A987, revise the heading and the “Items” paragraph of the “List of Items Controlled” section to read as follows:

Supplement No. 1 to Part 774—The Commerce Control List

* * * * *

0A987 Optical sighting devices for firearms (including shotguns controlled by 0A984); and parts (See list of items controlled).

* * * * *

List of Items Controlled

Unit: * * *

Related Controls: * * *

Related Definitions: * * *

Items: a. Telescopic sights.

b. Holographic sights.

c. Reflex or “red dot” sights.

d. Reticle sights.

e. Other sighting devices that contain optical elements.

f. Laser pointing devices designed for use on firearms.

g. Lenses, other optical elements and adjustment mechanisms for articles in paragraphs a, b, c, d or e.

12. In Supplement No. 1 to part 774, Category 0, ECCN 0E984, revise the license requirements section of ECCN 0E984 to read as follows:

Supplement No. 1 to Part 774—The Commerce Control List

* * * * *

0E984 “Technology” for the “development” or “production” of shotguns controlled by 0A984 and buckshot shotgun shells.

License Requirements

Reasons for Control: CC, UN

Control(s) | Country chart
CC applies to “technology” for shotguns with a barrel length over 18 in. (45.72 cm), and for shotgun shells controlled by ECCN 0A984. | CC Column 1.
UN applies to entire entry | Iraq, North Korea, and Rwanda.

* * * * *

13. In Supplement No. 1 to part 774, Category 3, revise the “Related Controls” paragraph of the “List of Items Controlled” section and add a note to the end of ECCN 3A981 to read as follows:

Supplement No. 1 to Part 774—The Commerce Control List

* * * * *

3A981 Polygraphs (except biomedical recorders designed for use in medical facilities for monitoring biological and neurophysical responses); fingerprint analyzers, cameras and equipment, n.e.s.; automated fingerprint and identification retrieval systems, n.e.s.; psychological stress analysis equipment; electronic monitoring restraint devices; and specially designed parts and accessories, n.e.s.

* * * * *

List of Items Controlled

Unit: * * *

Related Controls: See ECCN 0A982 for other types of restraint devices.

Related Definitions: * * *

Items: * * *

Note to ECCN 3A981. In this ECCN, electronic monitoring restraint devices are devices used to record or report the location of confined persons for law enforcement or penal reasons. The term does not include devices that confine memory impaired patents to appropriate medical facilities.

Dated: July 12, 2010.
Kevin J. Wolf,
Assistant Secretary for Export Administration.

[FR Doc. 2010-17338 Filed 7-14-10; 8:45 am]

BILLING CODE 3510-33-P